DEPARTMENT OF LABOR

Employment and Training Administration

[TA-W-57,446]

Hercules Incorporation, Aqualon Division, Parlin, New Jersey; Notice of Negative Determination on Reconsideration

On August 19, 2005, the Department issued an Affirmative Determination Regarding Application for Reconsideration for the workers and former workers of Hercules Incorporation, Aqualon Division, Parlin, New Jersey (“Hercules”). The Department's Notice was published in the Federal Register on September 1, 2005 (70 FR 52131). The petition date is June 24, 2005.

The Department initially denied Trade Adjustment Assistance (TAA) and Alternative Trade Adjustment Assistance (ATAA) to the subject worker group On July 20, 2005 because the subject company did not separate or threaten to separate a significant number or proportion of workers as required by Section 222 of the Trade Act during the relevant period.

In the request for reconsideration, the petitioner alleged that the company separated a majority of the workers at the Power House, which produces steam used in the production of a chemical called Natrosol and that the Power House supplied a component (steam) to a company which was certified for TAA during January 2004.

The reconsideration investigation revealed that the Power House produced steam that was both used to produce Natrosol at the Parlin, New Jersey plant and sold to a TAA-certified company.

To be certified as secondarily-affected, workers must be employed by a company which, during the relevant period, supplied a component part to a TAA-certified company and the separations are related to the production of the import-impacted article.

Because the sale of steam to the TAA-certified company ceased in 2003, loss of business to that company prior to the relevant period cannot be used as a basis for TAA certification for workers at the Hercules Power House.

Further, the reconsideration investigation revealed that the Power House, which is eighty years old and in need of repair, will be replaced by a newer, automated, and more cost-efficient structure which requires less staff to operate.

Conclusion

After reconsideration, I affirm the original notice of negative determination of eligibility to apply for worker adjustment assistance for workers and former workers of Hercules Incorporation, Aqualon Division, Parlin, New Jersey.

Signed at Washington, DC, this 13th day of September 2005.
Elliott S. Kushner,
Certifying Officer, Division of Trade Adjustment Assistance.

[FR Doc. E5-5288 Filed 9-27-05; 8:45 am]

BILLING CODE 4510-30-P